DEPARTMENT OF THE INTERIOR

Bureau of Land Management

[AZAR 08550]

Public Land Order No. 7598; Partial Revocation of Public Land Order No. 1229; AR; Correction

AGENCY: Bureau of Land Management, Interior.

ACTION: Correction.

SUMMARY: This action corrects the serial number and an error in the land description published as FR Doc. 04-5749 in the Federal Register, 69 FR 12177 (March 15, 2004).

On page 12177, column 1, line 3 of the notice, which reads “[AZAR 05427]” is hereby corrected to read “[AZAR 08550]''

On page 12177, column 1, bottom line, which reads “T. 16 N., R. 7 E.,” is hereby corrected to read “T. 18 N., R. 7 E.,''

Dated: April 12, 2004.
Michael A. Taylor,
Deputy State Director, Resources Division.

[FR Doc. 04-9318 Filed 4-23-04; 8:45 am]

BILLING CODE 3410-11-P